DEPARTMENT OF THE TREASURY

Community Development Financial Institutions Fund

Comment Request: Community Development Financial Institutions Fund: Comment Request on the Release of Transaction Level Report Data and Allocation Tracking System Data Provided by New Markets Tax Credit Program Allocatees

ACTION: Notice and request for comments.

SUMMARY: Currently, the Community Development Financial Institutions Fund (the Fund), a government corporation within the Department of the Treasury, is soliciting comments on the release of Transaction Level Report Data and Allocation Tracking System Data provided to the Fund by New Markets Tax Credit (NMTC) Program allocatees.

DATES: Written comments must be received on or before October 16, 2006 to be assured of consideration.

ADDRESSES: Comments must be submitted in writing and sent to Donna Fabiani, Manager for Financial Strategies and Research, as follows: (i) By mail to: Community Development Financial Institutions Fund, U.S. Department of the Treasury, 601 13th Street, NW., Suite 200 South, Washington, DC 20005; (ii) by e-mail to: NMTCTLRcomment@cdfi.treas.gov; or (iii) by fax to: (202) 622-7754.

FOR FURTHER INFORMATION CONTACT: Donna Fabiani, Manager for Financial Strategies and Research, as noted above.

SUPPLEMENTARY INFORMATION: Title: Release of Transaction Level Report Data and Allocation Tracking System Data Provided by New Markets Tax Credit (NMTC) Program Allocatees.

Abstract: The Fund's mission is to expand the capacity of financial institutions to provide credit, capital and financial services to underserved populations and communities in the United States. The Fund's strategic goal is to improve the economic conditions of underserved communities by providing capital and technical assistance to Community Development Financial Institutions (CDFIs), capital to insured depository institutions, and tax credit allocations to Community Development Entities (CDEs), which provide credit, capital, financial services, and development services to these markets. The Fund certifies entities as CDFIs and/or CDEs.

In June 2004, the Fund launched a new web-based data collection system called the Community Investment Impact System (CIIS). Certified CDFIs, CDFIs that have received monetary awards from the Fund through its other programs, and CDEs that have received NMTC allocations use CIIS to report their annual performance and compliance information to the Fund. The data include institution level information on CDFIs and CDEs including financial condition, staffing, ownership, markets served, loan and investment portfolios, loan sales and purchases, financial services provided, technical assistance and training provided, and community development impacts. For CDEs and a portion of reporting CDFIs, the CIIS data also include detailed transaction level data on each loan or investment in the institutions' portfolios. This transaction level data includes borrower characteristics, loan terms and repayment status, and community development outcomes associated with the transaction, such as jobs created, housing units developed, and square feet of real estate developed. The CIIS database is the only source of standardized transaction level data on CDFI and CDE loans and investments.

The Fund has a second reporting system, called the Allocation Tracking System (ATS), that CDEs that have received NMTC allocations (allocatees) use to report on their Qualified Equity Investments (QEIs). Through the ATS, an allocatee reports to the Fund timely information regarding the issuance of QEIs by the allocatee or any of the subsidiary CDEs to which the allocatee transfers its NMTC allocation (i.e., subsidiary allocatees). ATS data include the amount and date of each QEI as well as various investor characteristics, including investor type.

The Fund intends to make the Transaction Level Report data and the ATS data available to the public within the parameters of all applicable Federal information protection, privacy and confidentiality laws. The Fund expects that said data could be used by CDFIs, CDEs, funders, investors, researchers and others to gain a better understanding of the community development finance industry. The Fund has developed a draft protocol for releasing the Transaction Level Report data and the ATS data submitted by NMTC allocatees. Because the data contain information on businesses and individuals that may be considered sensitive and/or confidential, the Fund seeks public comment on its draft data release protocol. This draft protocol seeks to release as much data as possible without violating the Freedom of Information Act (FOIA), the Privacy Act, or other applicable Federal law. To that end, the Fund proposes not to release data that it has determined to be: (a) Confidential financial or business information of allocatees, investors, or the businesses that allocatees are lending to or investing in, the disclosure of which would cause substantial harm to the competitive position of the person from whom the information was obtained; or (b) confidential information about individuals, such as name, address, gender, race, and income.

To view the Proposed Data Release Protocol (providing a description of each data field and whether the Fund proposes that the field be displayed, suppressed, or modified in the public release), a sample data release, and definitions of each data point, visit the Fund's Web site http://www.cdfifund.gov and click on the links under “Comment Request on the Release of TLR Data and ATS Data Provided by NMTC Program Allocatees.”

Request for Comments: Comments submitted in response to this notice will become a matter of public record. Comments are invited on all aspects of the release of the Transaction Level Report data and ATS data, but commentators may wish to focus particular attention on the following questions:

(a) Are any of the identified data points proposed for release trade secrets or commercial financial information that is privileged or confidential?

(b) Would the release of any such information cause substantial harm to the competitive position of NMTC Program allocatees, allocatees' investors, or the businesses that allocatees are lending to or investing in?

(c) Would the release of any of the data points not currently proposed for release be useful to the public?

(d) Are any of the data points not currently proposed for release, but potentially of interest to the public, trade secrets or commercial or financial information that is privileged or confidential? Would the release of any such information cause substantive harm to the competitive position of NMTC Program allocatees, their investors, or the businesses that allocatees are lending to or investing in? Would the release of any such information cause the identity of individuals to be revealed?

(e) Is the proposed Excel spreadsheet format for releasing these data acceptable to a wide range of users? If not, what is a better alternative?

Authority: 26 U.S.C. 45D; 31 U.S.C. 321; 26 CFR 1.45D-1T.

Dated: August 8, 2006.
Arthur A. Garcia,
Director, Community Development Financial Institutions Fund.

[FR Doc. E6-13321 Filed 8-14-06; 8:45 am]

BILLING CODE 4810-70-P